DEPARTMENT OF THE INTERIOR

Bureau of Land Management

[BLM_AZ_FRN_MO4500182789 AZA-37939]

Notice of Availability of the Final Environmental Impact Statement for the Jove Solar Project, La Paz County, Arizona

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Final Environmental Impact Statement (EIS) for the Jove Solar Project.

DATES: The BLM will not issue a decision on the proposal for a minimum of 30 days after the date that the Environmental Protection Agency (EPA) publishes its Notice of Availability (NOA) in the Federal Register. The EPA usually publishes its NOAs on Fridays.

ADDRESSES: The Final EIS and documents pertinent to this proposal are available for review on the BLM ePlanning project website at https://eplanning.blm.gov/eplanning-ui/project/2017881/510.

FOR FURTHER INFORMATION CONTACT: Derek Eysenbach, Project Manager, at deysenbach@blm.gov, Bureau of Land Management, One North Central Avenue, Suite 800, Phoenix, Arizona 85004, or by phone at (602) 417-9505. Individuals in the United States who are deaf, deafblind, hard of hearing, or have a speech disability may dial 711 (TTY, TDD, or TeleBraille) to access telecommunications relay services for contacting Mr. Eysenbach. Individuals outside the United States should use the relay services offered within their country to make international calls to the point-of-contact in the United States.

SUPPLEMENTARY INFORMATION:

Purpose and Need

Jove Solar, LLC (Applicant) is seeking a 30-year right-of-way (ROW) to use 3,495 acres administered by the BLM Yuma Field Office and 38 acres administered by La Paz County to construct, operate and maintain, and decommission a utility-scale solar photovoltaic (PV) facility, called the Jove Solar Project (the Project). The Project would be located in southeastern La Paz County, Arizona, south of Interstate-10 midway between Phoenix and the California border, approximately 22 miles east-southeast of the community of Brenda and the I-10/Highway 60 junction, and 30 miles west of the community of Tonopah. The Project, as proposed, would consist of up to 1.2 million solar PV modules and associated infrastructure, including new and improved roads, powerlines for collection and transmission of electricity, and operation and maintenance facilities. The Project would interconnect at the Cielo Azul Switchyard adjacent to the Ten West Link 500-kilovolt (kV) transmission line and have a generation capacity of 600 megawatts or more. The initial application in 2019 was received under the company name Taurus Solar; the project name was revised to Jove Solar in an amended application on August 9, 2022. The Project is proposed within a solar variance area identified in the BLM Western Solar Plan (2012), and after conducting the variance review process described in that Plan, the BLM has determined that it is appropriate for the project to move forward for additional review and analysis under NEPA.

The BLM's purpose and need is to respond to the ROW application for a 30-year grant for the Project submitted by the Applicant under FLPMA Title V (43 U.S.C. 1761). The BLM is responsible under FLPMA and its ROW regulations for managing the public lands under principles of multiple use and sustained yield, including by considering applications for the generation of electric energy on public lands. (43 U.S.C. 1761(a)(4)). In the course of reviewing applications for a ROW to generate electric energy on public lands, the BLM must comply with FLPMA, the BLM ROW regulations, the Council on Environmental Quality regulations implementing NEPA, the Department of the Interior NEPA regulations, and other applicable Federal laws and regulations.

Proposed Action and Alternatives

Under the Proposed Action, the BLM would grant a 30-year ROW for the Project, which would have a net generating capacity of 600 megawatts alternating current (MWac) and span 3,495 acres of public land administered by the BLM Yuma Field Office, as well as 38 acres of La Paz County land. The Project would include solar PV modules, direct current cabling and combining switchgear, inverters, voltage collection systems, transformers, monitoring and controls systems, operations and maintenance facilities, and above-ground electrical connection lines. The Project would use a substation on an adjacent approved solar facility and connect into the regional transmission system via the Cielo Azul 500 kV switching station and Ten West Link 500 kV transmission line. Overhead 69 kV connection lines would extend approximately 2 miles in a proposed utility easement on La Paz County land to the Cielo Azul switching station. The Applicant has incorporated numerous design features into the Proposed Action to avoid or minimize adverse environmental effects during construction, operation, and decommissioning. These plans and procedures are provided as appendices to the Proposed Plan of Development and the Final EIS.

The Final EIS analyzes three alternatives:

• No Action, in which the BLM would not approve the ROW to authorize construction, operation and maintenance, and decommissioning of the Project, resulting in a continuation of existing conditions;

• Proposed Action, in which the BLM would approve the ROW to authorize construction, operation and maintenance, and decommissioning of the Project consistent with the detailed Project description above; and

• Wash Avoidance Alternative, in which the BLM would approve the ROW consistent with the design of the Proposed Action, except that the ROW would not authorize construction in a desert wash within the Project Area and near known environmentally sensitive sites, and would require using specified setbacks to enhance resource conservation opportunities.

Based on the analyses contained in the Final EIS for the proposed Jove Solar Project, and after carefully considering input from the public and cooperating agencies, the BLM has selected the Wash Avoidance Alternative as the preferred alternative, as it would further reduce impacts to native vegetation communities, wildlife movement, and natural hydrological drainage relative to the Proposed Action.

Public Participation

In addition to making the Draft EIS available for public comment, the BLM hosted one virtual public meeting during the comment period. The BLM received 26 written comments, including from Federal and State agencies, non-governmental organizations, construction and equipment vendors, Tribal Nations, and members of the general public. The BLM addressed these comments in the Final EIS. The BLM will continue to consult with Indian Tribal Nations on a government-to-government basis in accordance with Executive Order 13175, the BLM Manual Section (MS) 1780, and other Departmental policies. Public comments received on the Draft EIS and internal BLM review were considered and incorporated as appropriate into the Final EIS. Public comments and internal BLM review resulted in the addition of clarifying text, including the elimination of sub-alternatives no longer being considered. The revisions and edits have not significantly changed the impact analyses.

Schedule for the Decision-Making Process

The BLM anticipates releasing a Record of Decision in December 2024. The BLM will decide whether to issue a decision granting, granting with modifications, or denying the application for the ROW.

(Authority: 40 CFR 1506.6, 40 CFR 1506.10, and 43 CFR part 2800)

Raymond Suazo,
State Director.

[FR Doc. 2024-26607 Filed 11-14-24; 8:45 am]

BILLING CODE 4331-12-P